TENNESSEE VALLEY AUTHORITY

Sunshine Act Meeting

AGENCY HOLDING THE MEETING: Tennessee Valley Authority (Meeting No. 1547).

TIME AND DATE: 9 a.m. (EDT), August 27, 2003; TVA West Tower Auditorium, 400 West Summit Hill Drive, Knoxville, Tennessee.

STATUS: Open.

Agenda

Approval of minutes of meeting held on July 30, 2003.

New Business

A—Budget and Financing

A1. Rate change and rate adjustment.

A2. Approval of short-term borrowing from the United States Treasury.

C—Energy

C1. Contract with Tool Smith Company, Inc., for purchase, repair, and rental of power tools.

C2. Contracts with the following companies for construction/ modification services for TVA's Facilities Management and River System Operations and Environment organizations: Raines Brothers, Inc.; Schaerer Contracting Company, Inc.; and Vega Corporation, all of Chattanooga, Tennessee; Commercial Contracting Company, Maryville, Tennessee; Stethen-Smith Construction Company, Knoxville, Tennessee; Johnson Contractors, Inc., and Cates & Puckett Construction Company, Inc., both of Muscle Shoals, Alabama; B. H. Craig Construction Company, Inc., Florence, Alabama; Morsey, Inc., Calvert City, Kentucky; and M. P. Lawson Construction, Inc., Paducah, Kentucky.

E—Real Property Transactions

E1. Public auction sale of approximately 1.6 acres of land adjacent to the Singleton Laboratory site on Fort Loudoun Reservoir in Blount County, Tennessee, Tract No. XFL-135.

E2. Abandonment of certain transmission line easement rights affecting approximately 23.0 acres of land, Tract Nos. KDHR-2, KDHR-4, and KDHR-5, to Vulcan Materials, in exchange for transmission line easement rights affecting approximately 24.6 acres of land in Livingston County, Kentucky, Tract No. 2KDHR-1.

E3. Abandonment of certain transmission line easement rights affecting approximately 12.8 acres of land, Tract Nos. WGFL-2, WGFL-3, WGFL-4, TRF-12, and TRF-13, to BP Amoco Chemical Company, in exchange for transmission line easement rights affecting approximately 39.14 acres of land in Morgan County, Alabama, Tract No. MECT-1.

E4. Grant of a 30-year term public recreation easement for use as a public park to the City of Stevenson, Alabama, affecting approximately 122 acres of land on Guntersville Reservoir in Jackson County, Alabama, Tract No. XTGR-83RE.

E5. Grant of permanent and temporary construction easements to the State of Tennessee for a highway improvement project affecting approximately .53 acre of land on the Norton Hill Microwave Repeater Station site in Madison County, Tennessee, Tract No. XTWJRS-1H.

E6. Grant of a permanent easement to the State of Tennessee for a highway improvement project affecting approximately .4 acre of land on Watts Bar Reservoir in Roane County, Tennessee, Tract No. XTWBR-144H.

F—Other

F1. Designation of Edwin W. Small and Michael L. Wills as Assistant Secretaries of TVA.

F2. Approval to file condemnation cases to acquire easements and rights-of-way for a TVA power transmission line project affecting the Leake-Singleton Transmission Line in Leake County, Mississippi.

Information Items

1. Approval to enter into a financial arrangement associated with a call provision which TVA has on its 1993 Series F Power Bonds and for delegations to take related actions.

2. Approval of the issuance, sale, and delivery of TVA Power Bonds.

3. Approval of the appointment of John M. Hoskins to the Board of Directors of the TVA Retirement System.

4. Approval of a contract with KEMA, Inc., to provide project management and engineering support in connection with TVA's Power System Optimization Project.

5. Approval of an amendment to the Business Practice entitled, “The Acquisition and Disposal of Fossil Fuels and Related Transportation and Storage.”

6. Sale of a permanent easement to Kentucky Utilities Company for a 69kV double circuit transmission line, affecting approximately 4.47 acres of land on Kentucky Reservoir Dam Reservation in Livingston County, Kentucky, Tract No. XGIR-939T.

7. Approval to file condemnation cases to acquire easements and rights-of-way for TVA power transmission line projects affecting the Batesville-Blue Goose Transmission Line in Panola and Tate Counties, Mississippi, and the John Sevier-Alcoa Loop into State Route 160 Substation Transmission Line in Hamblen County, Tennessee.

8. Approval of a revised Business Practice 12 entitled, “Legal Representation.”

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: August 20, 2003.
Maureen H. Dunn,
General Counsel and Secretary.

[FR Doc. 03-21726 Filed 8-21-03; 10:36 am]

BILLING CODE 8120-08-P